DEPARTMENT OF AGRICULTURE

Agricultural Marketing Service

[Docket No. AMS-CN-21-0059]

Determination for Conducting a Continuance Referendum Regarding Amendments to the Cotton Research and Promotion Act

AGENCY: Agricultural Marketing Service, USDA.

ACTION: Notice.

SUMMARY: This notice announces the U.S. Department of Agriculture's (USDA) determination not to conduct a continuance referendum regarding the 1991 amendments to the Cotton Research and Promotion Order provided for in the Cotton Research and Promotion Act amendments of 1990. This determination is based on the results of a sign-up period conducted June 21, 2021, through July 2, 2021, and October 18, 2021, through October 29, 2021, during which eligible cotton producers and importers were provided an opportunity to request a continuance referendum.

FOR FURTHER INFORMATION CONTACT: Shethir M. Riva, Director, Research and Promotion, Cotton and Tobacco Program, AMS, USDA, 100 Riverside Parkway, Suite 101, Fredericksburg, Virginia 22406; Telephone (540) 361-2726, Email at CottonRP@usda.gov.

SUPPLEMENTARY INFORMATION: The 1991 amendments to the Cotton Research and Promotion Order (Order) (7 CFR part 1205) were implemented following the July 1991 referendum. The amendments were provided for in the 1990 amendments to the Cotton Research and Promotion Act (Act) (7 U.S.C. 2101-2118). These amendments provided for: (1) Importer representation on the Cotton Board by an appropriate number of persons, to be determined by USDA, who import cotton or cotton products into the U.S., and whom USDA selects from nominations submitted by importer organizations certified by USDA; (2) assessments levied on imported cotton and cotton products at a rate determined in the same manner as for U.S. cotton; (3) increasing the amount USDA can be reimbursed for the conduct of a referendum from $200,000 to $300,000; (4) reimbursing government agencies that assist in administering the collection of assessments on imported cotton and cotton products; and (5) terminating the right of producers to demand a refund of assessments.

On December 18, 2020, USDA issued a determination based on its review not to conduct a referendum regarding the 1991 amendments to the Order (85 FR 82426); however, the Act provides that USDA shall nevertheless conduct a referendum at the request of 10 percent or more of the total number of eligible producers and importers that voted in the most recent referendum.

Pursuant to section 8(c) of the Act, USDA provided all eligible Upland cotton producers and importers of cotton and cotton-containing products an opportunity to sign up and request a continuance referendum regarding the 1991 amendments to the Order from June 21, 2021, until July 2, 2021 (86 FR 20255). During the counting and verification of sign-up requests, the AMS learned that the United States Postal Service (USPS) erroneously closed the Post Office Box AMS used to receive sign-up requests, and USPS returned mail contained within the box. Given this error by the USPS and not knowing how many pieces of mail were contained in the box, AMS believed it was necessary to reopen the sign-up period to allow for any eligible importers and producers to submit a request in the event any sign-ups submitted during the original sign-up were not received by AMS.

On September 21, 2021, USDA issued a direct final rule indicating that the sign-up period would be reopened October 18, 2021 through October 29, 2021. (86 FR 52397).

During the period of June 21, 2021, through July 2, 2021, and October 18, 2021, through October 29, 2021, USDA provided an opportunity for eligible cotton producers and importers to request a continuance referendum regarding the 1991 amendments to the Order provided for in the Act. Sign-up requests from both sign-up periods were considered.

Sign-up period results showed that USDA received 3 valid requests from eligible producers and importers. The following table depicts the number of requests for a continuance referendum.

Farm service agency state office | Total sign-up requests
Alabama | 0
Arizona | 0
Arkansas | 0
California | 0
Florida | 0
Georgia | 0
Illinois | 0
Kansas | 0
Kentucky | 0
Louisiana | 0
Mississippi | 0
Missouri | 0
Nevada | 0
New Mexico | 0
North Carolina | 2
Oklahoma | 0
South Carolina | 0
Tennessee | 0
Texas | 0
Virginia | 0
Importers | 1
Total | 3

Section 8(c)(2) of the Act, provides that following a sign-up period, USDA shall conduct a referendum upon the request of 10 percent or more of the number of cotton producers and importers voting in the most recent referendum (1991). This would require 10 percent or 4,622 (46,220 × .10 = 4,622) of the 46,220 valid ballots cast by cotton producers and importers in the July 1991 referendum. It is further provided that, in counting such request not more than 20 percent may be from producers from any one state or importers of cotton.

The results of this sign-up period did not meet the criteria as established by the Act for a continuance referendum, and, therefore, a referendum will not be conducted. USDA bases this determination on the fact that the three valid requests received during the sign-up period is less than the 4,622 required.

With this announcement of the results of the sign-up period, USDA has completed all requirements set forth in Section 8(c)(1) and (2) of the Act regarding the review of the Cotton Research and Promotion Program to determine if a continuance referendum is warranted. A referendum will not be conducted, and no further actions are planned in connection with this review.

(Authority: 7 U.S.C. 2101-2118.)

Melissa Bailey,
Associate Administrator, Agricultural Marketing Service.

[FR Doc. 2021-27577 Filed 12-20-21; 8:45 am]

BILLING CODE 3410-02-P